DEPARTMENT OF HEALTH AND HUMAN SERVICES

Health Resources and Services Administration

Request for Nominations

AGENCY: Health Resources and Services Administration (HRSA), Department of Health and Human Services (HHS).

ACTION: Request for Nominations to the Centers for Disease Control and Prevention (CDC)/HRSA Advisory Committee on HIV, Viral Hepatitis and STD Prevention and Treatment.

SUMMARY: HRSA is seeking nominations of four qualified candidates to be considered for appointment as members of the CDC/HRSA Advisory Committee on HIV, Viral Hepatitis and STD Prevention and Treatment (Committee). The Committee consists of 18 public members, including two co-chairs. The Committee membership maintains a balance of diverse experiences and expertise. Those requesting consideration require expertise in areas such as: Public health; epidemiology; laboratory practice; immunology; infectious diseases; behavioral health and science including, but not limited to opioid use and related expertise; health education; healthcare delivery; state health programs; clinical care; preventive health; medical education; health services and clinical research; and healthcare financing. In addition, people living with HIV and affected populations as well as individuals employed by state and local health and education agencies, HIV/viral hepatitis/STD community-based organizations, and the ethics or religious community are encouraged to submit nomination packages for consideration. Current federal employees will not be considered.

DATES: Written nominations for membership to the Committee must be received on or before May 30, 2018. Packages received after this time will not be considered for the current membership cycle. (See SUPPLEMENTARY INFORMATION, below, for required documentation.)

ADDRESSES: Submit your electronic nomination package by electronic mail to CHACAdvisoryComm@hrsa.gov.

FOR FURTHER INFORMATION CONTACT: CDR Holly Berilla, HRSA, HIV/AIDS Bureau by email at CHACAdvisoryComm@hrsa.gov or by telephone at (301) 443-9965. A copy of the Committee Charter and background information can be obtained by accessing the Advisory Committee website at https://www.cdc.gov/maso/facm/facmchachspt.html.

SUPPLEMENTARY INFORMATION: The CDC/HRSA Advisory Committee on HIV, Viral Hepatitis and STD Prevention and Treatment was established under Section 222 of the Public Health Service (PHS) Act, [42 U.S.C. Section 217a], as amended.

The purpose of the Committee is to advise the Secretary, HHS; the Director, CDC; and the Administrator, HRSA regarding objectives, strategies, policies, and priorities for HIV, viral hepatitis, and other STD prevention and treatment efforts including surveillance of HIV infection, AIDS, viral hepatitis, and other STDs, and related behaviors; epidemiologic, behavioral, health services, and laboratory research on HIV, viral hepatitis, and other STDs; identification of policy issues related to HIV/viral hepatitis/STD professional education, patient healthcare delivery, and prevention services; Agency policies about prevention of HIV, viral hepatitis and other STDs, treatment, healthcare delivery, and research and training; strategic issues influencing the ability of CDC and HRSA to fulfill their missions of providing prevention and treatment services; programmatic efforts to prevent and treat HIV, viral hepatitis, and other STDs; and support to the Agencies in their developoment of responses to emerging health needs related to HIV, viral hepatitis, and other STDs.

Members selected will be considered special government employees (SGEs) and may be invited to serve four (4) year terms. SGEs are eligible to receive a stipend and reimbursement for per diem and any travel expenses incurred for attending Committee meetings, as authorized by section 5 U.S.C. 5703 for persons employed intermittently in government service. Approved nominees will be invited to serve during calendar year 2019.

The following information must be included in the electronic nomination package for each individual to be considered for nomination: (1) A statement clearly indicating the name and affiliation of the nominee, the basis for the nomination (i.e., specific attributes such as experience, education, current affiliations, positions, etc.), and that the nominee is willing to serve as a member of the Committee; (2) the nominee's name, address, and daytime telephone number and the home/or work address, and email address; and (3) a current copy of the nominee's curriculum vitae. Nomination packages may be summited directly by the individual being nominated or by the person/organization recommending the candidate.

HHS is required to ensure that the membership of the Committee is balanced in terms of points of view represented. Every effort is made to ensure that individuals from a broad representation of geographic areas, gender, ethnic and minority groups, as well as individuals with disabilities are given consideration for membership and therefore, HHS encourages nominations of qualified candidates from these groups. HHS also encourages geographic diversity in the composition of the Committee. Appointments shall be made without discrimination based on age, ethnicity, gender, sexual orientation, and cultural, religious, or socioeconomic status.

Individuals who are selected for appointment will be required to provide detailed information regarding their financial holdings, consultancies, and research grants or contracts. Disclosure of this information is necessary in order to determine if the selected candidate is involved in any activity that may pose a potential conflict with the official duties to be performed as a member of the Committee.

Amy McNulty,
Acting Director, HRSA, Division of the Executive Secretariat.

[FR Doc. 2018-03853 Filed 2-23-18; 8:45 am]

BILLING CODE 4165-15-P